SECURITIES AND EXCHANGE COMMISSION

[Release No. 34-103572; File No. SR-NYSEARCA-2024-98]

Self-Regulatory Organizations; NYSE Arca, Inc.; Order Scheduling Filing of Statements on Review of an Order Approving a Proposed Rule Change, as Modified by Amendment No. 1 Thereto, To Amend NYSE Arca Rule 8.500-E (Trust Units) and To List and Trade Shares of the Bitwise 10 Crypto Index ETF Under Amended NYSE Arca Rule 8.500-E (Trust Units)

July 29, 2025.

On November 14, 2024, NYSE Arca, Inc. (“NYSE Arca” or “Exchange”) filed with the Securities and Exchange Commission (“Commission”), pursuant to Section 19(b)(1) of the Securities Exchange Act of 1934 (“Exchange Act”) ¹ and Rule 19b-4 thereunder,² a proposed rule change to list and trade shares of the Bitwise 10 Crypto Index ETF under certain proposed listing rules. The proposed rule change was published for comment in the Federal Register on December 3, 2024.³

¹ 15 U.S.C. 78s(b)(1).

² 17 CFR 240.19b-4.

³ See Securities Exchange Act Release No. 101775 (Nov. 27, 2024), 89 FR 95853 (Dec. 3, 2024). Comments on the proposed rule change are available at: https://www.sec.gov/comments/sr-nysearca-2024-98/srnysearca202498.htm.

On January 14, 2025, pursuant to Section 19(b)(2) of the Exchange Act,⁴ the Division of Trading and Markets (“Division”), pursuant to delegated authority, extended the time period for Commission action on the proposed rule change.⁵ On March 3, 2025, the Division, pursuant to delegated authority, instituted proceedings pursuant to Section 19(b)(2)(B) of the Exchange Act ⁶ to determine whether to approve or disapprove the proposed rule change.⁷ On May 28, 2025, the Division, pursuant to delegated authority, designated a longer period for Commission action on proceedings to determine whether to approve or disapprove the proposed rule change.⁸

⁴ 15 U.S.C. 78s(b)(2).

⁵ See Securities Exchange Act Release No. 102186 (Jan. 14, 2025), 90 FR 7199 (Jan. 21, 2025) (designating March 3, 2025, as the date by which the Commission shall either approve, disapprove, or institute proceedings to determine whether to disapprove the proposed rule change).

⁶ 15 U.S.C. 78s(b)(2)(B).

⁷ See Securities Exchange Act Release No. 102514 (Mar. 3, 2025), 90 FR 11559 (Mar. 7, 2025).

⁸ See Securities Exchange Act Release No. 103140 (May 28, 2025), 90 FR 23574 (June 3, 2025) (designating July 31, 2025, as the date by which the Commission shall either approve or disapprove the proposed rule change).

On July 17, 2025, the Exchange filed Amendment No. 1 to the proposed rule change, which replaced and superseded the proposed rule change in its entirety. The proposed rule change, as modified by Amendment No. 1, was published for comment in the Federal Register on July 23, 2025.⁹

⁹ See Securities Exchange Act Release No. 103499 (July 18, 2025), 90 FR 34681 (July 23, 2025).

On July 22, 2025, the Division, acting on behalf of the Commission by delegated authority,¹⁰ approved the proposed rule change, as modified by Amendment No. 1, on an accelerated basis.¹¹ On July 22, 2025, the Deputy Secretary of the Commission notified NYSE Arca that, pursuant to Commission Rule of Practice 431,¹² the Commission would review the Division's action pursuant to delegated authority and that the Division's action pursuant to delegated authority was stayed until the Commission orders otherwise.¹³

¹⁰ 17 CFR 200.30-3(a)(12).

¹¹ See Securities Exchange Act Release No. 103531 (July 22, 2025), 90 FR 35339 (July 25, 2025).

¹² 17 CFR 201.431.

¹³ See Letter from J. Matthew DeLesDernier, Deputy Secretary, Commission, to Le-Anh Bui, Senior Counsel, NYSE Group, Inc., dated July 22, 2025, available at https://www.sec.gov/files/rules/sro/nysearca/2025/sr-nysearca-2024-98-rule-431-letter-2025-07-22.pdf.

Accordingly, it is ordered, pursuant to Commission Rule of Practice 431, that by August 22, 2025, any party or other person may file a statement in support of, or in opposition to, the action made pursuant to delegated authority.

It is further ordered that the order approving proposed rule change SR-NYSEARCA-2024-98 shall remain stayed pending further order of the Commission.

By the Commission.
Sherry R. Haywood,
Assistant Secretary.

[FR Doc. 2025-14548 Filed 7-31-25; 8:45 am]

BILLING CODE 8011-01-P